DEPARTMENT OF ENERGY

Federal Energy Regulatory Commission

[Docket No. RP00-374-000]

Columbia Gas Transmission Corp., Notice of Technical Conference

October 5, 2000

In the Commission's order issued on August 23, 2000,¹ the Commission directed that a technical conference be held to address issues raised by the filing.

¹ 92 FERC 61,173 (2000).

A technical conference was held on Thursday, September 14, 2000. At that conference the parties indicated that another conference is warranted.

Take notice that the technical conference will be held on Tuesday, October 17, 2000, at 10 a.m., in a room to be designated at the offices of the Federal Energy Regulatory Commission, 888 First Street, NE, Washington, DC 20426.

All interested parties and Staff are permitted to attend.

Linwood A. Watson, Jr.,
Acting Secretary.

[FR Doc. 00-26127 Filed 10-11-00; 8:45 am]

BILLING CODE 6717-01-M